ENVIRONMENTAL PROTECTION AGENCY

40 CFR Part 60

[EPA-HQ-OAR-2009-0559; FRL-9222-4]

RIN 2060-AP90

Standards of Performance for New Stationary Sources and Emission Guidelines for Existing Sources: Sewage Sludge Incineration Units; Correction

AGENCY: Environmental Protection Agency (EPA).

ACTION: Proposed rule; technical correction.

SUMMARY: This action clarifies certain text of the proposed rules titled “Standards of Performance for New Stationary Sources and Emission Guidelines for Existing Sources: Sewage Sludge Incineration Units.” The proposed rules were published in the Federal Register on October 14, 2010. The action proposes how EPA will address Clean Air Act requirements to establish new source performance standards for new units and emission guidelines for existing units for specific categories of solid waste incineration units.

DATES: Comments must be received on or before November 29, 2010.

ADDRESSES: Submit your comments, referencing Docket ID Number EPA-HQ-OAR-2009-0559 by one of the following methods:

• Federal eRulemaking Portal: http://www.regulations.gov. Follow the on-line instructions for submitting comments.

• A-and-r-docket@epa.gov.

• Facsimile: Fax your comments to (202) 566-1741, Attention Docket ID Number EPA-HQ-OAR-2009-0559.

• Mail: U.S. Environmental Protection Agency, EPA Docket Center (EPA/DC), Air and Radiation Docket Information Center, 1200 Pennsylvania Avenue, NW.; Mail Code: 6102T, Washington, DC 20460. Please include a total of two copies. We request that a separate copy also be sent to the contact person identified in the FOR FURTHER INFORMATION CONTACT section below.

• Hand Delivery: To send comments or documents through a courier service, the address to use is: EPA Docket Center, Public Hearing Room, EPA West, Room 334, 1301 Constitution Avenue, NW., Washington, DC 20004. Such deliveries are accepted only during the Docket's normal hours of operation—8:30 a.m. to 4:30 p.m., Monday through Friday. Special arrangements should be made for deliveries of boxed information. Please include a total of two copies.

FOR FURTHER INFORMATION CONTACT: Ms. Amy Hambrick, Natural Resource and Commerce Group, Sector Policies and Programs Division (E143-03), Environmental Protection Agency, Research Triangle Park, North Carolina 27711; telephone number: (919) 541-0964; facsimile number: (919) 541-3470; e-mail address: hambrick.amy@epa.gov.

SUPPLEMENTARY INFORMATION: Organization of This Document. The following outline is provided to aid in locating information in this notice.

I. What is the background for the correction?

II. What are the corrections to the proposed rules (75 FR 63260)?

III. Statutory and Executive Order Reviews

I. What is the background for the correction?

On October 14, 2010 (75 FR 63260), EPA proposed rules that would address in part Clean Air Act requirements to establish new source performance standards (NSPS) for new units and emission guidelines (EG) for existing units for specific categories of solid waste incineration units. In that action, EPA proposed NSPS and EG for sewage sludge incineration (SSI) units. EPA subsequently determined that one sentence in the proposed regulatory text could have been interpreted in a manner inconsistent with what EPA intended to propose. This notice clarifies that language.

This action does not affect the substance of the proposed rules, nor does it change the rights or obligations of any party. Rather, this notice merely clarifies certain regulatory text in the proposed rules. This action is minor, noncontroversial, and does not substantively change the proposed rule.

II. What are the corrections to the proposed rules (75 FR 63260)?

In this notice, we are clarifying the scope of the proposed affirmative defense for exceedance of an emission limit or standard during a malfunction. See proposed regulatory text at 75 FR 63260. Specifically, we are clarifying the regulatory text to reflect that the affirmative defense is available only against claims for civil penalties. The preamble to the October 14, 2010 (75 FR 63283), notice stated this position, as did other portions of the proposed regulatory text. See 75 FR 63299 proposed § 60.4861(b) and 75 FR 63323 proposed § 60.5181(b). However, one sentence in the regulatory text created a potential ambiguity that may not have reflected the Agency's intent. Therefore, we are clarifying this in the proposed regulatory text to explain that a facility may assert an affirmative defense to a claim for civil penalties for exceedances of the standards that are caused by a malfunction, as defined in 40 CFR 60.2, but may not assert such a defense to a claim for injunctive relief.

EPA is soliciting public comment on the proposed SSI rule published on October 14, 2010, until November 15, 2010, unless a public hearing is held. If a public hearing is held, then comments on the proposed SSI rule published on October 14, 2010, must be received by November 29, 2010. Members of the public may also comment on this technical correction during that time, and should submit any such comments to the docket for that proposed rule. Submit your comments, identified by Docket ID Number EPA-HQ-OAR-2009-0559, by one of the following methods identified in 75 FR 63260.

III. Statutory and Executive Order Reviews

EPA's compliance with relevant statutes and Executive Orders for the proposed SSI rule is discussed in the October 14, 2010, Federal Register notice titled “Standards of Performance for New Stationary Sources and Emission Guidelines for Existing Sources: Sewage Sludge Incineration Units.” (75 FR 63260). This technical correction does not affect the analyses contained in the October 14, 2010, notice.

List of Subjects in 40 CFR Part 60

Environmental protection, Administrative practice and procedure, Air pollution control, Intergovernmental relations, Reporting and recordkeeping requirements.

Dated: October 29, 2010.
Gina A. McCarthy,
Assistant Administrator.

For the reasons stated in the preamble, FR Doc. No. 2010-25122, published in the Federal Register on October 14, 2010, at 75 FR 63260 is corrected as follows:

1. Beginning on page 63298, in the third column, remove the second sentence in § 60.4861 introductory text and add the following two sentences in its place: “Appropriate penalties may be assessed, however, if the respondent fails to meet its burden of proving all of the requirements in the affirmative defense. The affirmative defense shall not be available for claims for injunctive relief.”

2. On page 63323, in the center column, remove the second sentence in § 60.5181 introductory text and add the following two sentences in its place: “Appropriate penalties may be assessed, however, if the respondent fails to meet its burden of proving all of the requirements in the affirmative defense. The affirmative defense shall not be available for claims for injunctive relief.”

[FR Doc. 2010-28002 Filed 11-4-10; 8:45 am]

BILLING CODE 6560-50-P